DEPARTMENT OF COMMERCE

National Oceanic and Atmospheric Administration

50 CFR Parts 300 and 600

[Docket No. 221215-0273]

RIN 0648-BK85

Magnuson-Stevens Fishery Conservation and Management Act; Seafood Import Monitoring Program

AGENCY: National Marine Fisheries Service (NMFS), National Oceanic and Atmospheric Administration (NOAA), Commerce.

ACTION: Proposed rule; request for comments; extension of the comment period.

SUMMARY: The National Marine Fisheries Service (NMFS) is announcing an extension to the comment period for the proposed rule on the Seafood Import Monitoring Program (SIMP) published in the Federal Register on December 28, 2022. The comment period is being extended from March 28, 2023, to April 27, 2023.

DATES: The comment period for the proposed rule published December 28, 2022 (87 FR 79836), is extended. Written comments must be received on or before April 27, 2023.

ADDRESSES: You may submit comments on this document, identified by NOAA-NMFS-2022-0119, by any of the following methods:

• Electronic Submission: Submit all electronic public comments via the Federal e-Rulemaking Portal. Go to https://www.regulations.gov and enter NOAA-NMFS-2022-0119 in the Search box. Click on the “Comment” icon, complete the required fields, and enter or attach your comments.

• Mail: Submit written comments to Rachael Confair, Office of International Affairs, Trade, and Commerce, National Marine Fisheries Service, 1315 East-West Highway (F/IS5), Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Rachael Confair, Office of International Affairs, Trade, and Commerce, National Marine Fisheries Service (phone: 301-427-8361; or email: rachael.confair@noaa.gov).

SUPPLEMENTARY INFORMATION: The proposed rule would add species or groups of species to the Seafood Import Monitoring Program established pursuant to the Magnuson-Stevens Fishery Conservation and Management Act (MSA). In addition, the proposed rule would amend SIMP regulations to clarify the responsibilities of the importer of record; amend the definition of importer of record to more closely align with the U.S. Customs and Border Protection (CBP) definition; amend the language requiring chain of custody records to be made available for audit or inspection to add a requirement that such records be made available through digital means if requested by NMFS; clarify the Aggregated Harvest Report criteria; and clarify the application of SIMP requirements to imports into the Pacific Insular Areas.

Extension of Comment Period

This document extends the public comment period established in the Federal Register for 30 days. A number of stakeholders have requested additional time to comment. NMFS is hereby extending the comment period, which was set to end on March 28, 2023, to April 27, 2023.

Dated: March 28, 2023.
Janet Coit,
Assistant Administrator for Fisheries, National Marine Fisheries Service.

[FR Doc. 2023-06739 Filed 3-28-23; 4:15 pm]

BILLING CODE 3510-22-P